GENERAL SERVICES ADMINISTRATION

[Notice: CIB-2011-3; Docket-2011-0004; Sequence 5]

Privacy Act of 1974; Notice of New System of Records

AGENCY: General Services Administration.

ACTION: New notice.

SUMMARY: GSA proposes to establish a new system of records subject to the Privacy Act of 1974, as amended, 5 U.S.C. 552a.

DATES: Effective October 14, 2011.

FOR FURTHER INFORMATION CONTACT: Call or e-mail the GSA Privacy Act Officer: telephone 202-208-1317; e-mail gsa.privacyact@gsa.gov.

ADDRESSES: GSA Privacy Act Officer (CIB), General Services Administration, 1275 First Street, NE., Washington, DC 20417.

SUPPLEMENTARY INFORMATION: GSA proposes to establish a new system of records subject to the Privacy Act of 1974, 5 U.S.C. 552a. The Inspector General Act of 1978 (5 U.S.C. App.) established the GSA Office of Inspector General (OIG) to conduct and supervise audits and investigations relating to the programs and operations of GSA. Within the GSA OIG, the responsibilities of the Office of Counsel to the Inspector General include (1) Providing legal services to the OIG on GSA programs and operations, administrative law issues, and criminal procedure, (2) representing the OIG in assisting the Department of Justice (DOJ) with litigation, including settlement of cases arising under the False Claims Act, (3) representing the OIG in personnel actions, and (4) responding to requests submitted to the OIG, including under the Freedom of Information Act and Privacy Act. The system will provide for the collection of information to track, manage, and process False Claims Act complaints, administrative actions including personnel matters, Freedom of Information Act and Privacy Act requests, and other administrative and litigation matters handled by the Office of Counsel to the Inspector General.

Dated: September 7, 2011.
Cheryl M. Paige,
Director, Office of Information Management.

GSA/ADM-26

SYSTEM NAME:

Office of Inspector General Counsel Files

SYSTEM LOCATION:

The system is maintained electronically and in paper form in the Office of Counsel to the Inspector General (OIG/JC).

CATEGORIES OF INDIVIDUALS COVERED BY THE SYSTEM:

Individuals who are (1) parties to or are otherwise referenced in complaints, administrative actions or other litigation or potential litigation related to GSA, (2) in Freedom of Information Act, Privacy Act, correspondence, or other requests handled by the OIG, (3) in GSA or OIG special projects or other records maintained by the Office of Counsel, and (4) attorneys, paralegals, and other employees of the Office of Inspector General directly involved in these cases or matters.

CATEGORIES OF RECORDS IN THE SYSTEM:

The system contains information routinely and necessarily obtained by the OIG Counsel's Office in the conduct of its official responsibility to represent and advise the GSA OIG. Records in this system pertain to a broad variety of matters handled by the OIG Office of Counsel, including but not limited to civil, criminal, and administrative actions, personnel matters, correspondence, special projects, and Freedom of Information Act and Privacy Act requests. Records may include but are not limited to: Name, social security number, addresses, phone numbers, e-mail address, birth date, financial information, medical records, or employment records. The system may also contain other records such as: Case history files, copies of applicable laws, working papers of attorneys, testimony of witnesses, correspondence, accident reports, pleadings, affidavits, litigation reports, financial data and other records. This system notice covers records not covered by other appropriate system of records notices.

AUTHORITY FOR MAINTENANCE OF THE SYSTEM:

General authority to maintain the system is contained in the Inspector General Act of 1978, as amended, 5 U.S.C. App. 3.

PURPOSE(S):

The records in this system are maintained for the purpose of providing representational and advisory legal services to the OIG.

ROUTINE USES OF THE SYSTEM RECORDS, INCLUDING CATEGORIES OF USERS AND THEIR PURPOSES FOR USING THE SYSTEM:

Records are used by GSA officials and representatives of other government agencies on a need-to-know basis in the performance of their official duties under the authorities set forth above and for the following routine uses:

a. A record of any case in which there is an indication of a violation of law, whether civil, criminal, or regulatory in nature, may be disseminated to the appropriate Federal, State, local, or foreign agency charged with the responsibility for investigating or prosecuting such a violation or charged with enforcing or implementing the law.

b. A record may be disclosed to a Federal, State, local, or foreign agency or to an individual or organization in the course of investigating a potential or actual violation of any law, whether civil, criminal, or regulatory in nature, or during the course of a trial or hearing or the preparation for a trial or hearing for such a violation, if there is reason to believe that such agency, individual, or organization possesses information relating to the investigation, and disclosing the information is reasonably necessary to elicit such information or to obtain the cooperation of a witness or an informant.

c. A record relating to a case or matter may be disclosed in an appropriate Federal, State, local, or foreign court or grand jury proceeding in accordance with established constitutional, substantive, or procedural law or practice, even when the agency is not a party to the litigation.

d. A record relating to a case or matter may be disclosed to an actual or potential party or to his or her attorney for the purpose of negotiation or discussion on matters such as settlement of the case or matter, plea-bargaining, or informal discovery proceedings.

e. A record may be disclosed to a Federal, State, local, foreign, or tribal or other public authority in response to its request in connection with the hiring or retention of an employee, the issuance of a security clearance, the reporting of an investigation of an employee, the letting of a contract, or the issuing of a license, grant, or other benefit by the requesting agency, to the extent that the information relates to the requesting agency's decision on the matter.

f. A record may be disclosed to an appeal, grievance, hearing, or complaint examiner; an equal opportunity investigator, arbitrator, or mediator; and/or an exclusive representative or other person authorized to investigate or settle a grievance, complaint, or appeal filed by an individual who is the subject of the record.

g. A record may be disclosed as a routine use to a Member of Congress or to a congressional staff member in response to an inquiry of the congressional office made at the request of the person who is the subject of the record.

h. A record may be disclosed: (a) To an expert, a consultant, or contractor of GSA engaged in a duty related to an agency function to the extent necessary to perform the function; and (b) to a physician to conduct a fitness-for-duty examination of a GSA officer or employee.

i. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

j. In any legal proceeding, where pertinent, to which GSA, a GSA employee, or the United States or other entity of the United States Government is a party before a court or administrative body.

k. To the Office of Personnel Management (OPM), the Office of Management and Budget (OMB), and the Government Accountability Office (GAO) in accordance with their responsibilities for evaluating Federal programs.

l. To the National Archives and Records Administration (NARA) for records management purposes.

POLICIES AND PRACTICES FOR STORING, RETRIEVING, ACCESSING, RETAINING, AND DISPOSING OF RECORDS IN THE SYSTEM:

STORAGE:

Records are maintained in paper and/or electronic form in the Office of Inspector General.

RETRIEVABILITY:

Records may be retrieved based on any information captured, including but not limited to: name, case name, and social security number.

SAFEGUARDS:

Access to electronic records is limited to authorized individuals with a need to know, and with passwords or keys. Electronic files are maintained behind an OIG firewall certified and accredited based on the security controls of the National Institute of Standards and Technology (NIST) and GSA Policy, and paper files are stored in locked rooms or filing cabinets with access limited to authorized personnel.

RETENTION AND DISPOSAL:

System records are retained and disposed of according to GSA records maintenance and disposition schedules and the requirements of the National Archives and Records Administration.

SYSTEM MANAGER AND ADDRESS:

Office of Counsel to the Inspector General, General Services Administration, 1800 F Street, NW., Washington, DC 20405. The Office of Counsel may also be contacted via telephone at (202) 501-1932.

NOTIFICATION PROCEDURE:

Individuals wishing to inquire if the system contains information about them should contact the system manager at the above address.

RECORD ACCESS PROCEDURES:

Individuals wishing to access their own records should contact the system manager in writing at the address above, and should include their full name (maiden name if appropriate), address, and date and place of birth. General inquiries may be made by telephone: (202) 501-1932.

RECORD CONTESTING PROCEDURE:

Individuals wishing to amend their records should contact the system manager at the address above. Applicable regulations are located at 41 CFR 105-64.

RECORD SOURCE CATEGORIES:

The sources for information in the system are data from other systems, information submitted by individuals or their representatives, information gathered from public sources, and information from other entities or individuals involved in the cases or matters.

[FR Doc. 2011-23467 Filed 9-13-11; 8:45 am]

BILLING CODE 6820-14-P